DEPARTMENT OF TRANSPORTATION

Federal Aviation Administration

14 CFR Part 39

[Docket No. FAA-2008-1274; Directorate Identifier 2008-NM-197-AD; Amendment 39-15764; AD 2008-25-06]

RIN 2120-AA64

Airworthiness Directives; Airbus Model A319, A320, and A321 Series Airplanes Equipped With International Aero Engines (IAE) Model V2500-A1 Engines or Model V25xx-A5 Series Engines

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

* * * Airbus has advised that an incorrect part number has been introduced in the IPC (illustrated parts catalog) * * * for the rear engine mount barrel nut. This problem affects Airbus A319, A320 and A321 models with IAE (International Aero Engine) V2500-A5 engines.

The part number introduced in error is not certificated for the IAE V2500-A5 engine installation and, if installed, may fail in service.

* * * * *

Failure of the rear engine mount barrel nut could result in reduced structural integrity of the rear engine mount and possible separation of the engine from the airplane, and a consequent hazard to the airplane and persons and property on the ground. This AD requires actions that are intended to address the unsafe condition described in the MCAI.

DATES: This AD becomes effective December 26, 2008.

The Director of the Federal Register approved the incorporation by reference of a certain publication listed in the AD as of December 26, 2008.

We must receive comments on this AD by January 12, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

The European Aviation Safety Agency (EASA), which is the Technical Agent for the Member States of the European Community, has issued EASA Emergency Airworthiness Directive 2008-0191-E, dated October 20, 2008 (referred to after this as “the MCAI”), to correct an unsafe condition for the specified products. The MCAI states:

DGAC-France AD 90-079-009(B) R1 [and corresponding FAA AD 90-22-08, amendment 39-6781 (corrected on November 8, 1990, 55 FR 47028)] introduced an inspection and daily rectification action on Airbus A320-231 aircraft in order to prevent failure of one or more of the engine rear mount barrel nuts.

Subsequent to the above problem, Airbus has advised that an incorrect part number has been introduced in the IPC (illustrated parts catalog) (reference 71-22-11 Figure 80B item 180) for the rear engine mount barrel nut. This problem affects Airbus A319, A320 and A321 models with IAE (International Aero Engine) V2500-A5 engines.

The part number introduced in error is not certificated for the IAE V2500-A5 engine installation and, if installed, may fail in service.

This Airworthiness Directive (AD), which supersedes DGAC-France AD 90-079-009(B) R1, mandates the inspections required to determine the standard of barrel nut installed and the corrective actions, as necessary, for the aircraft with V2500-A1 or -A5 engines installed.

Failure of the rear engine mount barrel nut could result in reduced structural integrity of the rear engine mount and possible separation of the engine from the airplane, and a consequent hazard to the airplane and persons and property on the ground. Required actions include inspecting for broken barrel nuts. The corrective actions include replacing the barrel nut with a different barrel nut and replacing the associated bolts, washers, and retainers; and contacting Airbus for corrective action if any affected barrel nut is found broken and doing that corrective action. You may obtain further information by examining the MCAI in the AD docket.

Relevant Service Information

Airbus has issued All Operator Telex A320-71A1045, dated October 17, 2008. The actions described in this service information are intended to correct the unsafe condition identified in the MCAI.

FAA's Determination and Requirements of this AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because of the possible failure of the rear engine mount on airplanes equipped with the incorrect barrel nuts, which could result in separation of the engine from the airplane and a consequent hazard to the airplane and persons and property on the ground. These incorrect rear engine mount barrel nuts may have been installed during maintenance on IAE Model V25xx-A5 series engines due to an error in the illustrated parts catalog. These incorrect barrel nuts cannot withstand the engine loads and must be replaced as soon as possible. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-1274; Directorate Identifier 2008-NM-197-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-25-06 Airbus: Amendment 39-15764. Docket No. FAA-2008-1274; Directorate Identifier 2008-NM-197-AD.

Effective Date

(a) This airworthiness directive (AD) becomes effective December 26, 2008.

Affected ADs

(b) None.

Applicability

(c) This AD applies to all Airbus Model A319-131, A319-132, A319-133, A320-231, A320-232, A320-233, A321-131, A321-231, and A321-232 series airplanes, certificated in any category; all serial numbers equipped with International Aero Engine (IAE) Model V2500-A1 engines or Model V25xx-A5 series engines. (The “xx” is used in the series engine reference to indicate various numbers listed in the type certificate data sheet.)

Subject

(d) Air Transport Association (ATA) of America Code 71: Powerplant.

Reason

(e) The mandatory continued airworthiness information (MCAI) states:

DGAC-France AD 90-079-009(B) R1 [and corresponding FAA AD 90-22-08, amendment 39-6781 (corrected on November 8, 1990, 55 FR 47028)] introduced an inspection and daily rectification action on Airbus A320-231 aircraft in order to prevent failure of one or more of the engine rear mount barrel nuts.

Subsequent to the above problem, Airbus has advised that an incorrect part number has been introduced in the IPC (illustrated parts catalog) (reference 71-22-11 Figure 80B item 180) for the rear engine mount barrel nut. This problem affects Airbus A319, A320 and A321 models with IAE V2500-A5 engines.

The part number introduced in error is not certificated for the IAE V2500-A5 engine installation and, if installed, may fail in service.

This Airworthiness Directive (AD) * * * mandates the inspections required to determine the standard of barrel nut installed and the corrective actions, as necessary, for the aircraft with V2500-A1 or -A5 engines installed.

Failure of the rear engine mount barrel nut could result in reduced structural integrity of the rear engine mount and possible separation of the engine from the airplane, and a consequent hazard to the airplane and persons and property on the ground. Required actions include inspecting for broken barrel nuts. The corrective actions include replacing the barrel nut with a different barrel nut and replacing the associated bolts, washers, and retainers; and contacting Airbus for corrective action if any affected barrel nut is found broken and doing that corrective action.

Actions and Compliance

(f) Unless already done, do the following actions for airplanes equipped with IAE model V2500-A1 engines: Within 7 days after the effective date of this AD, conduct a records review to determine if barrel nut part number (P/N) 83644-1612 is installed, in accordance with paragraph 5.1 of Airbus All Operator Telex (AOT) A320-71A1045, dated October 17, 2008.

(1) For airplanes on which it can be positively determined from a records review that P/N 83644-1612 is not installed, no further action is required by this paragraph.

(2) For airplanes on which it cannot be positively determined from a records review that P/N 83644-1612 is not installed: Within 7 days after the effective date of this AD, do the visual inspections of the barrel nut for part numbers and for broken nuts in accordance with paragraph 5.2 of Airbus AOT A320-71A1045, dated October 17, 2008.

(i) If one or more barrel nuts are found broken, before further flight contact Airbus for corrective actions and do the corrective actions.

(ii) If two or more barrel nuts having P/N 83644-1612 are found installed, before further flight correct the installation in accordance with paragraph 5.2 of Airbus AOT A320-71A1045, dated October 17, 2008.

(iii) If only one barrel nut having P/N 83644-1612 is found installed: At the later of the times specified in paragraphs (f)(1)(iii)(A) and (f)(2)(iii)(B) of this AD, correct the installation in accordance with paragraph 5.2 of Airbus AOT A320-71A1045, dated October 17, 2008.

(A) Within 1,200 flight hours or 960 flight cycles since installation of the part, whichever occurs first.

(B) Within 7 days after the effective date of this AD.

(g) Unless already done, do the following actions for airplanes equipped with IAE Model V25xx-A5 series engines: Within 7 days after the effective date of this AD, conduct a records review to determine if barrel nut P/N 83644-1612 is installed, in accordance with paragraph 4.1 of Airbus AOT A320-71A1045, dated October 17, 2008.

(1) For airplanes for which it can be positively determined from a records review that P/N 83644-1612 is not installed, no further action is required by this paragraph.

(2) For airplanes on which it cannot be positively determined that P/N 83644-1612 is not installed: Within 7 days after the effective date of this AD, do the visual inspections of the barrel nut for part numbers and for broken nuts, in accordance with paragraph 4.2 of Airbus AOT A320-71A1045, dated October 17, 2008.

(i) If one or more barrel nuts are found broken, before further flight contact Airbus for corrective actions and do the corrective actions.

(ii) If two or more barrel nuts having P/N 83644-1612 are found installed, before further flight correct the installation in accordance with paragraph 4.2 of Airbus AOT A320-71A1045, dated October 17, 2008.

(iii) If only one barrel nut having P/N 83644-1612 is found installed: At the later of the time specified in paragraphs (g)(2)(iii)(A) and (g)(2)(iii)(B) of this AD, correct the installation in accordance with paragraph 4.2 of Airbus AOT A320-71A1045, dated October 17, 2008.

(A) Within 1,200 flight hours or 960 flight cycles since installation of the part, whichever occurs first.

(B) Within 7 days after the effective date of this AD.

(h) As of the effective date of this AD, no person may install an engine mount barrel nut, part number 83644-1612, on any affected airplane.

(i) Accomplishment of the corrective actions specified in paragraph (f) of this AD terminates the requirements of AD 90-22-08, amendment 39-6781.

FAA AD Differences

Note 1: This AD differs from the MCAI and/or service information as follows: No differences.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(k) Refer to Mandatory Continuing Airworthiness Information (MCAI) European Aviation Safety Agency (EASA) Emergency Airworthiness Directive 2008-0191-E, dated October 20, 2008; and Airbus AOT A320-71A1045, dated October 17, 2008; for related information.

Material Incorporated by Reference

(l) You must use Airbus All Operator Telex A320-71A1045, dated October 17, 2008, to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; fax +33 5 61 93 44 51; e-mail: account.airworth-eas@airbus.com; Internet http://www.airbus.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call (202) 741-6030, or go to: http://www.archives.gov/federal_register/code_of_federal_regulations/ibr_locations.html.

Issued in Renton, Washington, on November 26, 2008.
Ali Bahrami,
Manager, Transport Airplane Directorate, Aircraft Certification Service.

[FR Doc. E8-29182 Filed 12-10-08; 8:45 am]

BILLING CODE 4910-13-P